DEPARTMENT OF COMMERCE

National Oceanic and Atmospheric Administration

RIN 0648-XM72

Endangered and Threatened Species; Take of Anadromous Fish

AGENCY: National Marine Fisheries Service (NMFS), National Oceanic and Atmospheric Administration (NOAA), Commerce.

ACTION: Issuance of a scientific research permit.

SUMMARY: Notice is hereby given that NMFS has issued Permits 10093 and 10094 to the California Department of Fish and Game (CDFG), Region 1 and Region 3; respectively.

ADDRESSES: The application, permit, and related documents are available for review by appointment at: Protected Resources Division, NMFS, 777 Sonoma Avenue, Room 315, Santa Rosa, CA 95404 (ph: 707-575-6097, fax: 707-578-3435, e-mail at: Jeffrey.Jahn@noaa.gov).

FOR FURTHER INFORMATION CONTACT: Jeffrey Jahn at 707-575-6097, or e-mail: Jeffrey.Jahn@noaa.gov.

SUPPLEMENTARY INFORMATION:

Authority

The issuance of permits and permit modifications, as required by the Endangered Species Act of 1973 (16 U.S.C. 1531-1543) (ESA), is based on a finding that such permits/modifications: (1) are applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations (50 CFR parts 222-226) governing listed fish and wildlife permits.

Species Covered in This Notice

This notice is relevant to federally threatened Southern Oregon/Northern California Coast (SONCC) coho salmon (Oncorhynchus kisutch), endangered Central California Coast (CCC) coho salmon, threatened California Coastal (CC) Chinook salmon (O. tshawytscha), threatened Northern California (NC) steelhead (O. mykiss), threatened CCC steelhead, threatened South-Central California Coast (S-CCC) steelhead, and endangered Southern California (SC) steelhead.

Permit Issued

A notice of the receipt of an application for a scientific research permit (10093 and 10094) was published in the Federal Register on January 16, 2008 (73 FR 2900). Permits 10093 and 10094 were issued to CDFG Region 1 and Region 3 on September 23, 2008.

Permits 10093 and 10094 authorizes CDFG Region 1 and Region 3; respectively, intentional non-lethal take, and unintentional lethal take of the following ESA-listed salmonids: juvenile SONCC coho salmon, CCC coho salmon, CC Chinook salmon, NC steelhead, CCC steelhead, S-CCC steelhead, and SC steelhead; adult CCC coho salmon, CC Chinook salmon, NC steelhead, CCC steelhead, and S-CCC steelhead; and adult carcasses of SONCC coho salmon, CCC coho salmon, CC Chinook salmon, NC steelhead, CCC steelhead, and S-CCC steelhead. The take activities associated with juvenile and adult ESA-listed salmonid studies include; capture (backpack electrofishing, beach seine, rotary screw trap, fish ladder trap, resistance board weir, flume-type-raceway/finger-weir-trap, hook and line and funnel/fyke trap), anesthetizing (optional), handling (identify, measure, and weigh), tissue sampling (fin-clip), scale sampling, marking (fin-clips and/or opercular-hole-punch), tagging (PIT and/or Floy tags) and release of fish. Take activities associated with adult ESA-listed salmonid carcass studies include; handling (identify, measure, and count), marking (opercular-hole-punch and/or cut-in-half), tagging (hog-ring), retaining (head; adipose clipped fish), scale sampling, tissue sampling (fin-clip), and release of fish.

Permits 10093 and 10094 authorizes unintentional lethal take of juvenile SONCC coho salmon, CCC coho salmon, CC Chinook salmon, NC steelhead, CCC steelhead, S-CCC steelhead, and SC steelhead not to exceed 2.5 percent of fish captured. Permits 10093 and 10094 authorizes unintentional lethal take of adult CCC coho salmon, CC Chinook salmon, NC steelhead, CCC steelhead, and S-CCC steelhead not to exceed 2 percent of fish captured.

Permits 10093 and 10094 are for research to be conducted in streams and estuaries throughout the State of California. The purpose of the research is to support conservation and recovery planning of ESA-listed salmonids, address information needs identified by CDFG Region 1 and Region 3, and contribute to the general body of scientific knowledge pertaining to ESA-listed salmonids. Permits 10093 and 10094 expire on December 31, 2013.

Dated: January 14, 2009.
Angela Somma,
Chief, Endangered Species Division, Office of Protected Resources, National Marine Fisheries Service.

[FR Doc. E9-1121 Filed 1-21-09; 8:45 am]

BILLING CODE 3510-22-S